DEPARTMENT OF COMMERCE

Bureau of Industry and Security

15 CFR Parts 738, 740, 745, and 748

[Docket No. 110802457-1467-01]

RIN 0694-AF18

Export Administration Regulations: Netherlands Antilles, Curaçao, Sint Maarten and Timor-Leste

AGENCY: Bureau of Industry and Security, Commerce.

ACTION: Final rule.

SUMMARY: The Netherlands Antilles dissolved on October 10, 2010. This rule removes the Netherlands Antilles from all places where it is mentioned in the Export Administration Regulations (EAR), e.g., the Commerce Country Chart, the Country Groups, and License Exception APP. Curaçao and Sint Maarten (the Dutch two-fifths of the island of Saint Martin) became semi-autonomous entities within the Kingdom of the Netherlands. Therefore, Curaçao and Sint Maarten are added to the Commerce Country Chart.

The territories and dependencies of a country are treated as the parent country under the EAR. Bonaire, Saba, and Sint Eustatius now fall under the direct administration of the Netherlands. Therefore, these dependencies are treated like the Netherlands and will not be listed on the Commerce Country Chart.

This rule also revises the name “East Timor” to read “Timor-Leste” throughout the EAR, because this is the proper name of the country.

DATES: Effective Date: This rule is effective: September 6, 2011.

FOR FURTHER INFORMATION CONTACT: For questions contact Sharron Cook, Office of Exporter Services, Bureau of Industry and Security, U.S. Department of Commerce at 202-482-2440 or by e-mail: Sharron.Cook@bis.doc.gov.

SUPPLEMENTARY INFORMATION:

Background

The Netherlands Antilles, consisting of Curacao, Sint Maarten, Bonaire, Saba, and Sint Eustatius, dissolved on October 10, 2010. Curaçao and Sint Maarten (the Dutch two-fifths of the island of Saint Martin) became semi-autonomous entities within the Kingdom of the Netherlands. Bonaire, Saba, and Sint Eustatius now fall under the direct administration of the Netherlands. In addition, BIS has recognized that the country previously referred to in the Commerce Country Chart as “East Timor” should instead be referred to by its proper name, which is “Timor-Leste.”

Revisions to the Export Administration Regulations (EAR)

This rule corrects the third sentence in Section 738.3 paragraph (b) removing the phrase “territory, possession, or department” and adding in its place “territory, possession, dependency or department” in two places. The Commerce Country Chart (Supplement No. 1 to part 738) generally does not list territories, possessions, dependencies or departments of countries, because they are treated the same as the parent country for export control purposes. The State Department has a Web site that lists “Dependencies and Areas of Special Sovereignty” at http://www.state.gov/s/inr/rls/10543.htm.

This rule removes the Netherlands Antilles from the Commerce Country Chart (Supplement No. 1 to part 738 of the EAR), because it has dissolved and all the territories and dependencies previously under the Netherlands Antilles, except Curaçao and Sint Maarten (the Dutch two-fifths of the island of Saint Martin), are now treated in the same manner as the parent country—the Netherlands. Curaçao and Sint Maarten (the Dutch two-fifths of the island of Saint Martin) became semi-autonomous entities within the Kingdom of the Netherlands. Therefore, Curaçao and Sint Maarten (the Dutch two-fifths of the island of Saint Martin) are added to the Commerce Country Chart with license requirements (Xs) that are the same as the license requirements were for the Netherlands Antilles. In addition, this rule replaces the country name of “East Timor” with the proper name of “Timor-Leste” in the Commerce Country Chart and moves the resulting row to its appropriate alphabetic location.

This rule also removes the Netherlands Antilles from the list of countries in Computer Tier 1 of License Exception APP in Section 740.7(c)(1). There is no change in eligibility for exports or reexports to Bonaire, Saba, and Sint Eustatius of computers under License Exception APP, because the Netherlands is already in Computer Tier 1. However, there is expanded eligibility for exports and reexports to Bonaire, Saba, and Sint Eustatius of computer technology and software under License Exception APP, because the Netherlands is listed in Section 740.7(c)(3)(i) of License Exception APP. Curaçao and Sint Maarten (the Dutch two-fifths of the island of Saint Martin) are added to Computer Tier 1 of License Exception APP. In addition, this rule replaces the country name of “East Timor” with the proper name of “Timor-Leste” in Section 740.7(c)(1) and moves it to its new alphabetic location in Computer Tier 1.

This rule also makes changes to the Country Groups in Supplement No. 1 to part 740. A country may appear in one or more of the Country Groups, or not at all, depending upon, among other things, its affiliation or membership in a multilateral export control regime. This rule removes the Netherlands Antilles from the list of countries in Country Group B of the Country Groups (Supplement No. 1 to part 740), and adds Curaçao and Sint Maarten (the Dutch two-fifths of the island of Saint Martin) to Country Group B. The Netherlands is listed in Country Group B, and therefore this revision does not alter the export controls or exemptions that apply to Bonaire, Saba, and Sint Eustatius. However, the Netherlands is also listed in Country Group A and therefore all exemptions, e.g., License Exceptions APR and GOV, that apply to the Netherlands now apply to its dependencies, territories and possessions. Additionally, this rule removes “East Timor” and adds in its place “Timor-Leste” in alphabetic order in the list of countries of Country Group B.

This rule revises Supplement No. 2 to part 745 “States Parties to the Convention on the Prohibition of the Development, Production, Stockpiling, and use of Chemical Weapons and on Their Destruction” by removing “Timor Leste (East Timor)” and adding in its place “Timor-Leste”. This rule also removes “Netherlands **” and adds in its place “Netherlands (Kingdom of the) **” for clarification purposes and because of the recent changes to these entities. In addition, this rule removes the phrase “the Netherlands includes Aruba and the Netherlands Antilles.” in the two asterisk footnote and adds in its place “the Netherlands (Kingdom of) includes the following dependencies: Aruba, Curaçao, and Sint Maarten (the Dutch two-fifths of the island of Saint Martin).”

This rule revises paragraph (a)(1) of Section 748.9 “Support documents for license applications” by removing “Netherlands Antilles” and adding “Leeward Antilles”. This change will maintain the support document exemption for Aruba, Bonaire and Curaçao, and add a support document exemption for the Venezuelan archipelago. The Leeward Antilles consists of:

ABC islands:

Aruba (Kingdom of the Netherlands),

Bonaire (Kingdom of the Netherlands),

Curaçao (Kingdom of the Netherlands).

Venezuelan archipelago:

Las Aves,

Los Roques,

La Orchilla,

La Blanquilla,

Los Hermanos,

Los Testigos.

The support documentation exemption for Saba, Sint Eustatius and Sint Maarten will continue as they are part of the Leeward Islands, which is already listed in Section 748.9(a)(1).

Export Administration Act

Since August 21, 2001, the Export Administration Act of 1979, as amended, has been in lapse. However, the President, through Executive Order 13222 of August 17, 2001 (3 CFR, 2001 Comp. 783 (2002)), which has been extended by successive Presidential Notices, the most recent being that of August 12, 2010, 75 FR 50681 (August 16, 2010) has continued the EAR in effect under the International Emergency Economic Powers Act (50 U.S.C. 1701 et seq.).

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been designated a “not significant regulatory action,” under section 3(f) of Executive Order 12866.

2. Notwithstanding any other provision of law, no person is required to respond to, nor shall any person be subject to a penalty for failure to comply with a collection of information, subject to the requirements of Paperwork Reduction Act, unless that collection of information displays a currently valid Office of Management and Budget Control Number. This rule involves three collections of information subject to the PRA. One of the collections has been approved by OMB under control number 0694-0088, “Multi-Purpose Application,” and carries a burden hour estimate of 43.8 minutes for a manual or electronic submission. The second of the collections has been approved by OMB under control number 0694-0017, “International Import Certificate,” and carries a burden hour estimate of 15 minutes for a manual or electronic submission. The last of the collections has been approved by OMB under control number 0694-0021, “Statement by Ultimate Consignee and Purchaser,” and carries a burden hour estimate of 15 minutes for a manual or electronic submission Send comments regarding these burden estimates or any other aspect of these collections of information, including suggestions for reducing the burden, to OMB Desk Officer, New Executive Office Building, Washington, DC 20503; and to Jasmeet Seehra, OMB Desk Officer, by e-mail at Jasmeet_K._Seehra@omb.eop.gov or by fax to (202) 395-7285; and to the Office of Administration, Bureau of Industry and Security, Department of Commerce, 14th and Pennsylvania Avenue, NW., Room 6622, Washington, DC 20230. This rule does not contain policies with Federalism implications as that term is defined under E.O. 13132.

3. The Department finds that there is good cause under 5 U.S.C. 553(b)(B) to waive the provisions of the Administrative Procedure Act requiring prior notice and the opportunity for public comment because it is unnecessary. The revisions made by this rule are administrative in nature and minimally affect the rights and obligations of the public. Because these revisions are not substantive changes to the EAR, it is unnecessary to provide notice and opportunity for public comment. In addition, the 30-day delay in effectiveness required by 5 U.S.C. 553(d) is not applicable because this rule is not a substantive rule. Notice of proposed rulemaking and opportunity for public comment are not required for this rule under the Administrative Procedure Act or by any other law, and the analytical requirements of the Regulatory Flexibility Act (5 U.S.C 601 et seq.) are not applicable.

List of Subjects

15 CFR Part 738

Exports.

15 CFR Parts 740 and 748

Administrative practice and procedure, Exports, Reporting and recordkeeping requirements.

15 CFR Part 745

Administrative practice and procedure, Chemicals, Exports, Foreign trade, Reporting and recordkeeping requirements.

Accordingly, parts 738, 740, 745, and 748 of the Export Administration Regulations (15 CFR Parts 730 through 774) are amended as follows:

PART 738—[AMENDED]

1. The authority citation for 15 CFR part 738 is revised to read as follows:

Authority: 50 U.S.C. app. 2401 et seq.; 50 U.S.C. 1701 et seq.; 10 U.S.C. 7420; 10 U.S.C. 7430(e); 22 U.S.C. 287c; 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 12, 2011, 76 FR 50661 (August 16, 2011).

§ 738.3 [Amended]

2. Section 738.3 is amended by removing the phrase “territory, possession, or department” and adding in its place “territory, possession, dependency or department” in two places in the third sentence of paragraph (b).

3. Supplement No. 1 to part 738 is amended by:

a. Adding in alphabetic order rows for “Curaçao” and “Sint Maarten (the Dutch two-fifths of the island of Saint Martin)”, as set forth below:

b. Removing the row for “Netherlands Antilles”; and

c. Removing the country name “Timor East” and adding (in alphabetic order) in its place “Timor-Leste”

SUPPLEMENT NO. 1 TO PART 738—COMMERCE COUNTRY CHART

Reason for Control
Countries | Chemical & biological weapons: CB 1 | Chemical & biological weapons: CB 2 | Chemical & biological weapons: CB 3 | Nuclear non-proliferation: NP 1 | Nuclear non-proliferation: NP 2 | National security: NS 1 | National security: NS 2 | Missile tech: MT 1 | Regional stability: RS 1 | Regional stability: RS 2 | Firearms convention: FC 1 | Crime control: CC 1 | Crime control: CC 2 | Crime control: CC 3 | Anti- terrorism: AT 1 | Anti- terrorism: AT 2
* * * * * * *
Curaçao | X | X |  | X |  | X | X | X | X | X |  | X |  | X |  |
* * * * * * *
Sint Maarten (the Dutch two-fifths of the island of Saint Martin) | X | X |  | X |  | X | X | X | X | X |  | X |  | X |  |
* * * * * * *

PART 740—[AMENDED]

4. The authority citation for 15 CFR part 740 is revised to read as follows:

Authority: 50 U.S.C. app. 2401 et seq.; 50 U.S.C. 1701 et seq.; 22 U.S.C. 7201 et seq.; E.O. 13026, 61 FR 58767, 3 CFR, 1996 Comp., p. 228; E.O. 13222, 66 FR 44025, 3 CFR, 2001 Comp., p. 783; Notice of August 12, 2011, 76 FR 50661 (August 16, 2011).

§ 740.7 [Amended]

5. Section 740.7 is amended by:

a. Removing “Netherlands Antilles” from the list of countries in paragraph (c)(1);

b. Adding in alphabetic order “Curaçao” and “Sint Maarten (the Dutch two-fifths of the island of Saint Martin)” to paragraph (c)(1);

c. Removing “East Timor” and adding “Timor-Leste” in alphabetic order to paragraph (c)(1).

Supplement No. 1 to Part 740 [Amended]

6. Supplement No. 1 to part 740 is amended by:

a. Removing “Netherlands Antilles” from the list of countries in Country Group B;

b. Adding in alphabetic order “Curaçao” and “Sint Maarten (the Dutch two-fifths of the island of Saint Martin)” to the list of countries in Country Group B; and

c. Removing “East Timor” and adding “Timor-Leste” in alphabetic order in the list of countries of Country Group B.

PART 745—[AMENDED]

7. The authority citation for 15 CFR part 745 continues to read as follows:

Authority: 50 U.S.C. 1701 et seq.; E.O. 12938, 59 FR 59099, 3 CFR, 1994 Comp., p. 950; Notice of November 4, 2010, 75 FR 68673 (November 8, 2010).

Supplement No. 2 to Part 745 [Amended]

8. Supplement No. 2 to part 745 is amended by:

a. Removing “Netherlands * * *” and adding in its place “Netherlands (Kingdom of the) * * *”

b. Removing “Timor Leste (East Timor)” and adding in its place “Timor-Leste”;

c. Removing the phrase “the Netherlands includes Aruba and the Netherlands Antilles.” in the two asterisk footnote and adding in its place “the Netherlands (Kingdom of) includes: Aruba, Curaçao, and Sint Maarten (the Dutch two-fifths of the island of Saint Martin).”

PART 748—[AMENDED]

9. The authority citation for 15 CFR part 748 is revised to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 12, 2011, 76 FR 50661 (August 16, 2011).

§ 748.9 [Amended]

10. Section 748.9 is amended in the list of countries in paragraph (a)(1) by removing “Netherlands Antilles” and adding in alphabetical order “Leeward Antilles”.

Dated: August 30, 2011.
Kevin J. Wolf,
Assistant Secretary for Export Administration.

[FR Doc. 2011-22678 Filed 9-2-11; 8:45 am]

BILLING CODE 3510-33-P